DEPARTMENT OF AGRICULTURE

Forest Service

Okanogan and Wenatchee National Forests Resource Advisory Committee

AGENCY: Forest Service, USDA.

ACTION: Notice of meeting.

SUMMARY: The Wenatchee-Okanogan Resource Advisory Committee will meet on Wednesday, April 29 and Wednesday, May 13 at the Okanogan-Wenatchee National Forest Headquarters Office, 215 Melody Lane, Wenatchee, WA, and on Wednesday, May 6 at the Rural County Fire District #1 Sunnyslope Fire Station, 206 Easy Street, Wenatchee, WA. These meetings will begin at 9 a.m. and continue until 3 p.m. On April 29, committee members will review Yakima County and Kittitas County projects, on May 6, committee members will review Chelan County projects, and on May 13, committee members will review Okanogan County projects proposed for Resource Advisory Committee consideration under Title II of the Secure Rural Schools and Community Self-Determination Act of 2000.

All Wenatchee-Okanogan Resource Advisory Committee meetings are open to the public. Interested citizens are welcome to attend.

FOR FURTHER INFORMATION CONTACT: Direct questions regarding this meeting to Robin DeMario, Public Affairs Specialist, Okanogan-Wenatchee National Forest, 215 Melody Lane, Wenatchee, Washington 98801 (509) 664-9200.

Dated: March 27, 2009.
Rebecca Lockett Heath,
Okanogan-Wenatchee National Forest, Forest Supervisor.

[FR Doc. E9-7485 Filed 4-2-09; 8:45 am]

BILLING CODE 3410-11-P